DEPARTMENT OF ENERGY

Federal Energy Regulatory Commission

[Docket No. P-2232-407]

Catawba-Wateree; Notice of Meeting

October 16, 2003.

a. Date and Time of Meeting: October 30, 2003, 10 am.

b. Place: Federal Energy Regulatory Commission, teleconference, 888 First Street, NE., Washington, DC 20426.

c. FERC Contact: Michael Spencer at (202) 502-6093, michael.spencer@ferc.gov

d. Purpose of the Meeting: The Federal Energy Regulatory Commission, the U.S. Fish and Wildlife Service, and applicant, intend to have an informal discussion regarding federally-listed and candidate species for the Catawba-Wateree amendment application Project No. 2232-407.

e. Proposed Agenda:

A. Introduction

Recognition of Participants

B. Technical discussion

C. Follow-up actions

f. All local, state, and Federal agencies, Indian Tribes, and interested parties, are hereby invited to attend this meeting as participants. If you want to participate by teleconference, please contact Michael Spencer at the number listed above no later than October 28, 2003.

Magalie R. Salas,
Secretary.

[FR Doc. E3-00103 Filed 10-23-03; 8:45 am]

BILLING CODE 6717-01-P